DEPARTMENT OF THE INTERIOR

Bureau of Land Management

[NM-920-1320-01; NMNM 8128, NMNM 8130, and NMNM 11670]

Notice of Availability, Record of Decision (ROD) for the Thermal Energy Company Preference Right Lease Applications (PRLAs), San Juan County, NM

AGENCY: Bureau of Land Management, Interior.

ACTION: Notice of Availability.

SUMMARY: Regulations for the PRLA process require that a ROD be made available to the public. The ROD in this case is the document announcing the Bureau of Land Management's decision regarding the PRLAs submitted by the Thermal Energy Company. This action gives notice of the availability of the ROD for the PRLAs for the Thermal Energy Company.

ADDRESSES: Copies of the ROD can be obtained at the New Mexico State Office, Bureau of Land Management, P.O. Box 27115, Santa Fe, New Mexico 87502-0115.

FOR FURTHER INFORMATION CONTACT: Ida T. Viarreal, Land Law Examiner, at (505) 438-7603.

Dated: November 8, 2005.
Linda S.C. Rundell,
State Director.

[FR Doc. E5-7070 Filed 12-7-05; 8:45 am]

BILLING CODE 4310-FB-P